INTERNATIONAL TRADE COMMISSION

Agency Form Submitted for OMB Review

AGENCY: United States International Trade Commission.

ACTION: Proposed collection; comment request.

In accordance with the provisions of the Paperwork Reduction Act of 1995 (44 U.S.C. chapter 35), the Commission has submitted an emergency request for approval of questionnaires to the Office of Management and Budget (OMB) for review. The Commission has requested OMB approval by October 25, 2002.

EFFECTIVE DATE: October 3, 2002.

Purpose of Information Collection: The forms are for use by the Commission in connection with investigation No. 332-445, Conditions of Competition in the U.S. Market for Wood Structural Building Components, instituted under the authority of section 332(g) of the Tariff Act of 1930 (19 U.S.C. 1332(g)). This investigation was requested by the Senate Committee on Finance. The Commission expects to deliver the results of its investigation to the Committee by April 30, 2003.

Summary of Proposal

(1) Number of forms submitted: two.

(2) Title of form: Conditions of Competition in the U.S. Market for Wood Structural Building Components—Questionnaires for U.S. Producers and Purchasers.

(3) Type of request: new.

(4) Frequency of use: Producer and Purchaser questionnaire, single data gathering, scheduled for November 1-December 6, 2002.

(5) Description of respondents: U.S. firms which produce or purchase wood structural building components.

(6) Estimated number of respondents: 339 (Producer questionnaire), 325 (Purchaser questionnaire).

(7) Estimated total number of hours to complete the forms: 5,312.

(8) Information obtained from the form that qualifies as confidential business information will be so treated by the Commission and not disclosed in a manner that would reveal the individual operations of a firm.

Additional Information or Comment: Copies of the forms and supporting documents may be obtained from Alfred Forstall (USITC, telephone no. (202) 205-3443). Comments about the proposals should be directed to the Office of Management and Budget, Office of Information and Regulatory Affairs, Room 10102 (Docket Library), Washington, DC 20503, Attention: Desk Officer for International Trade Commission. All comments should be specific, indicating which part of the questionnaire is objectionable, describing the concern in detail, and including specific suggested revisions or language changes. Copies of any comments should be provided to Robert Rogowsky, Director, Office of Operations, U.S. International Trade Commission, 500 E Street SW., Washington, DC 20436, who is the Commission's designated Senior Official under the Paperwork Reduction Act.

Dates: To be assured of consideration, written comments must be submitted to OMB and to the Commission by October 21, 2002. Hearing impaired individuals are advised that information on this matter can be obtained by contacting our TTD terminal (telephone no. 202-205-1810). General information concerning the Commission may also be obtained by accessing its Internet server (http://www.usitc.gov).

By order of the Commission.
Issued: October 4, 2002.
Marilyn R. Abbott,
Secretary to the Commission.

[FR Doc. 02-25708 Filed 10-8-02; 8:45 am]

BILLING CODE 7020-02-P